DEPARTMENT OF DEFENSE

Department of Army, Corps of Engineers

Notice of Availability; Final Environmental Impact Statement

AGENCY: U.S. Army Corps of Engineers, Department of Defense (DoD).

ACTION: Announcement of Final Environmental Impact Statement (FEIS) availability.

SUMMARY: The King Cove Health and Safety Act (Section 353) of the Omnibus Consolidated and Emergency Supplemental Appropriations Act of 1999 (Public Law 105-277) provided the Aleutians East Borough (AEB) with $20 million to construct a year-round marine-road transportation system between the Cities of King Cove and Cold Bay Alaska on the Alaska Peninsula. AEB proposes a 150-acre project consisting of a 17.2-mile access road, two hovercraft ramps and terminals located on the Northeast Corner of Cold Bay and Cross Wind Cove on the west side of Cold Bay, and a hovercraft. The Corps of Engineers, Alaska District has evaluated the AEB's permit application under the authority of Section 10 of the Rivers and Harbors Act and Section 404 of the Clean Air Act. The EIS describes five alternatives that satisfy the purpose and needs for the proposed project. The alternatives are: (1) Northeast Corner Cold Bay—Hovercraft; (3) Lenard Harbor—Hovercraft; (4) Lenard Harbor—Ferry; (5) Lenard Harbor—Helicopter; and (6) the Isthmus Road alternative. Alternative 2 is the No Action Alternative. Alternative 6 was included in the Draft Environmental Impact Statement (DEIS) for comparison purposes only and cannot be selected for authorization by the decision-maker. Alternatives 1, 3, 4, and 5 would be constructed primarily on King Cove Corporation surface lands. Alternative 1 requires a USFWS compatibility determination on Native corporation owned lands within the Izembek National Wildlife Refuge, and no construction or operations would occur within the Congressionally designated Wilderness Area. Currently, Alternatives 3 and 4 are designated as the Environmentally Preferable Alternatives. The Corps of Engineers will use the EIS, public review process, and consideration of comments received, as a basis for the permit decision.

FOR FURTHER INFORMATION CONTACT: Mr. Leroy Phillips, Regulatory Branch, U.S. Army Corps of Engineers, P.O. Box 6898, Elmendorf, AFB 99506-6898; by telephone at (907) 753-2712; (800) 478-2712 (In Alaska); or by Fax at (907) 753-5567. Additional information including a complete copy of the Public Notice, Executive Summary, FEIS and Appendices are available on the project web site: www.kingcoveaccesseis.com.

SUPPLEMENTARY INFORMATION: The U.S. Army Corps of Engineers, Alaska District is the lead Federal agency with the U.S. Fish and Wildlife Service as a cooperating agency for this FEIS. During the Scoping process (February 16 to June 22, 2001) over 12,331 comments were received, with over 12,000 comments and opinions provided by e-mail. Many of these scoping comments expressed an objection to a road through the Izembek National Wildlife Refuge Wilderness Area. Twenty-eight alternatives were preliminary considered during the scoping and the alternative development phase of the EIS process. Six alternatives were selected for further evaluation. The proposed action (Alternative 1, Northeast Corner Cold Bay (NeCB) / Hovercraft) and two alternatives (Alternative 3, Lenard Harbor / Hovercraft; and Alternative 4, Lenard Harbor / Ferry) were selected for detailed evaluation that incorporates a marine-road link design in compliance with Section 353 cited above. The required “no action” alternative is presented as Alternative 2. The two remaining alternatives are not in compliance with section 353; hence the $20 million Federal appropriations would not be available for project construction. These are an air-road link alternative (Alternative 5, Lenard Harbor / Helicopter) and an all road alternative (Alternative 6, Isthmus Road). The all road alternative (Alternative 6) is not a practicable alternative for evaluation under the section 404(b)(1) Guidelines (40 CFR 230) for the Clean Water Act and cannot be authorized by the District Engineer. If an application is received by the USFWS under Title XI of ANCSA, a separate EIS would be required, with approval required by the Secretary of Interior, The President and Congress. No significant adverse impacts were identified for Alternatives 1, 3, 4 and 5. Significant beneficial impacts were noted for each action alternative centering on human and social resources with the ability to enhance safe, reliable and efficient emergency medical transport for King Cove residents and seasonal workers. For Alternatives 1, 3, 4 and 5 with the incorporation and implementation of mitigation measure, impacts to threatened and endangered or listed species (Steller's eider, Steller sea lion and Northern sea otter) were preliminarily determined not likely to adversely affect these species. For the same alternatives and incorporation of mitigation measures, determinations of would not likely impact Essential Fish Habitat, and Habitats of Particular Concern were concluded.

Notice of Availability of the DEIS and the Department of Army Corps of Engineers Public Notice were published on August 8, 2003. The comment period on these documents was open until September 23, 2003. There were 6,391 comments received during this period. Of these: three were Federal agencies, two State of Alaska agencies, six Native governments, 14 local governments, 19 non-governmental organizations, 38 people testified at the public hearings, 150 individual letters, and the rest of the comments were primarily form emails generated from two non-governmental organization promotions. Verbal testimony was received during the public hearings held in Cold Bay, Alaska on August 25, 2003, in King Cove Alaska on August 26, 2003, and in Anchorage, Alaska on September 10, 2003. After a review of the comments it was determined that the Commentors concerns were the same as those expressed during the above referenced scoping period. The District Engineer has determined that the issues identified by the commentors were properly addressed in the DEIS. Therefore, the FEIS would be in the form of the “abbreviated” document in accordance with procedures outlined in 40 CFR 1503.4(c).

Comment Period: Comments on the FEIS should be received by the Corps of Engineers, Alaska District (address above) by December 31, 2003 or 30-days from the publication date within the Federal Register, which ever is later.

Kevin D. Morgan,
North Section Chief, Regulatory, Corps of Engineers Alaska District.

[FR Doc. 03-29765 Filed 11-28-03; 8:45 am]

BILLING CODE 3710-NL-P